DEPARTMENT OF AGRICULTURE

Office of the Under Secretary, Marketing and Regulatory Programs, USDA Public Forum on Captive Supplies in the Livestock Industry

ACTION: Notice of meeting.

Name: USDA Public Forum on Captive Supplies in the Livestock Industry.

Date: September 21, 2000.

Place: Holiday Inn Denver International Airport, 15550 East 40th Avenue, Denver, Colorado.

Time: 8 a.m.—5:30 p.m.

Purpose: To solicit information and evidence on issues pertaining to captive supplies in the livestock industries, including packer use of forward contracting and packer feeding.

The forum will provide the opportunity for the public to submit written comments on key issues related to captive supplies, for farm groups to offer evidence on the problems or benefits of captive supplies, and for two invited groups of panelists to debate and discuss questions related to captive supplies issues.

One panel will discuss concerns about packer ownership and control of livestock. A second panel will debate whether and how captive supplies affect competition. In addition, the second panel will synthesize the economic literature available on captive supplies.

The meeting will be open to the public. Public participation will be comprised of attendance at the meeting and participation in open question and answer sessions for panelists, as well as the submission of written statements addressing captive supply issues.

Written statements may be submitted at the forum or sent to: Shannon Hamm, U.S. Department of Agriculture, 1400 Independence Avenue, SW, STOP 3601, Washington, D.C. 20250-3601, telephone (202) 720-5759 or FAX (202) 205-9237, e-mail pspwashingtondc.gipsa@usda.gov (Note: the e-mail subject line must read “Captive Supply forum”). All mailed comments must be postmarked on or before September 28, 2000. All statements received will be made part of the public record.

The meeting will be physically accessible to people with disabilities. Requests for sign language interpretation or other auxiliary aids should be directed to Terri Henry, USDA, 202-720-0219, at least 5 days prior to the meeting date.

Dated: August 29, 2000.
Enrique E. Figueroa,
Deputy Under Secretary, Marketing and Regulatory Programs.

[FR Doc. 00-22715 Filed 9-6-00; 8:45 am]

BILLING CODE 3410-FN-M